DEPARTMENT OF HOUSING AND URBAN DEVELOPMENT

[Docket No. FR-4579-FA-11]

Announcement of Funding Awards—Fiscal Year 2001, Office of Troubled Agency Recovery Cooperative Agreements

AGENCY: Office of the Assistant Secretary for Public and Indian Housing, HUD.

ACTION: Announcement of funding awards.

SUMMARY: In accordance with section 102(a)(4)(C) of the Department of Housing and Urban Development Reform Act of 1989, this announcement notifies the public of funding decisions made by the Department from funds distributed to the Office of Troubled Agency Recovery during Fiscal Year 2001. This announcement contains the name and address of all awardees and the amount of each award.

FOR FURTHER INFORMATION CONTACT: Karen A. Newton, Department of Housing and Urban Development, 451 Seventh Street, SW, Washington, DC 20410, telephone (202) 708-1141. Hearing- or speech-impaired individuals may call HUD's TDD number (202) 708-4594. (These numbers are not toll-free.)

SUPPLEMENTARY INFORMATION: The Cooperative Agreement with each of the following recipients was issued pursuant to section 6(j) of the United States Housing Act of 1937. The awards will be used to provide technical assistance to support troubled agency recovery efforts and funding assistance as necessary to remedy the substantial deterioration of living conditions in public housing or other related emergencies that endanger the health, safety, and welfare of the residents.

The Catalog of Federal Domestic Assistance number for this program is 14.859.

In accordance with section 102(a)(4)(C) of the Department of Housing and Urban Development Reform Act of 1989 (103 Stat. 1987, 42 U.S.C. 3545), the Department is publishing the name, address, and amount of each award as follows:

(Cooperative Agreement Awards for Fiscal Year 2001
Awardee | Amount
San Francisco Housing Authority, 440 Turk Street, San Francisco, CA 94102 | $147,679
Whitney Housing Authority, PO Box 594, Whitney, TX 76692 | 5,625
Housing Authority of New London, 78 Walden Avenue, New London, CT 06320 | 155,000
Bernalillo Housing Authority, PO Box 70 Bernalillo, NM 87004 | 28,985
Housing Authority of New Orleans, 4100 Touro Street, New Orleans, LA 70122 | 150,000
Muskegon Housing Commission, 1823 Commerce Street, Muskegon, MI 49440 | 125,000
Housing Authority of Kansas City, 299 Paseo, Kansas City, MO 64106 | 200,000
Tulane-Xavier University, Center for the Urban Community, Campus Affiliates Program, 102 Central Building, Tulane University, New Orleans, LA 70118 | 2,000,000
National Association of Housing and Redevelopment Officials (NAHRO), 1320 18th St. NW, Washington, DC 20035 | 540,000
Consensus Building Institute, 131 Mt. Auburn Street, Cambridge, MA 02138 | 183,650
Housing Authority of Havre de Grace, 101 Stansbury Court, Havre de Grace, MD 21078 | 15,000
Housing Authority of Texarkana, 1611 North Robison Rd., Texarkana, TX 75501 | 82,102
Housing Authority of the City of Sanford, 94 Castle Brewer Ct., Sanford, FL | 1,150,000
Housing Authority of St. James Parish, PO Box 280, Lutcher, LA 70071 | 88,827
Muskegon Housing Commission, 1823 Commerce St., Muskegon, MI 49441 | 125,000

Dated: October 29, 2001.
Michael Liu,
Assistant Secretary for Public and Indian Housing.

[FR Doc. 01-27490 Filed 11-1-01; 8:45 am]

BILLING CODE 4210-33-P